ENVIRONMENTAL PROTECTION AGENCY

[AMS-FRL-6948-5]

Control of Air Pollution From New Motor Vehicles; Low Sulfur Gasoline Refinery Hardship Applications

AGENCY: Environmental Protection Agency (EPA).

ACTION: Notice; request for comments.

SUMMARY: In December 1999, we promulgated the Tier 2/Gasoline Sulfur final rule (see 65 FR 6698, February 10, 2000) for more stringent vehicle emission standards and low sulfur gasoline. This action included a provision which allows refiners to seek temporary relief from the regulations based on a showing of unusual circumstances that impose extreme hardship and significantly affect their ability to comply by the required date, as well as other factors. This provision also requires refiners to make best efforts to comply with low sulfur gasoline requirements. Through this action, we are inviting comment on the applications and relief requested for three refiners whose application is under active assessment. The public is invited to provide comment on this matter.

DATES: Any comment should be provided to the EPA by March 21, 2001.

ADDRESSES: Comments: Send paper or e-mail comments to the contact person listed below. If applicable, commenters should specify which application they are addressing.

FOR FURTHER INFORMATION CONTACT: Tad Wysor, U.S. EPA, National Vehicle and Fuels Emission Laboratory, Assessment and Standards Division, 2000 Traverwood, Ann Arbor, MI 48105; telephone (734) 214-4332, fax (734) 214-4816, e-mail wysor.tad@epa.gov.

SUPPLEMENTARY INFORMATION: In the Tier 2/Gasoline Sulfur final rule, we established standards to limit the sulfur content of gasoline beginning in 2004. As part of this rule, we included provisions permitting refiners to seek temporary relief from these requirements based on a showing of unusual circumstances that impose extreme hardship and significantly affect the refiner's ability to comply by the required date, as well as other factors. This provision also requires the refiners to make best efforts to comply with the low sulfur gasoline requirements (see 40 CFR 80.270). At this time, we are actively considering applications from three refiners. These applicants are identified below with their refinery's total crude oil capacity in barrels per calendar day and a general description of the relief they are seeking:

Refinery | Location | Crude capacity (bped)* | Relief sought
United Refining Company | Warren, PA | 65,000 | Same as small refiner program.
Wyoming Refining | Newcastle, WY | 9,995 | 150 ppm avg/300 ppm cap for 2004-2007.
National Cooperative Refinery Assoc. (NCRA) | McPherson, KS | 77,400 | Interim sulfur reductions with full compliance in June 2006.
* Based on data from the Department of Energy's Energy Information Administration Petroleum Supply Annual 1999, Vol. 1 as of January 1, 2000.

We are now in the process of reviewing and evaluating these hardship applications according to the provisions of 40 CFR 80.270. Although the review and determination associated with these applications does not involve a rulemaking, we believe it is important to provide public notice of these applications and to provide opportunity for public comment. The applicants have requested that we treat most of the information in their applications as business proprietary “Confidential Business Information” under 40 CFR part 2.

Any party wishing to provide us input on these applicants in the context of 40 CFR 80.270 or to provide what they otherwise consider to be relevant materials should direct these to the contact person listed above by March 21, 2001. We will consider any relevant information provided in our evaluation of these applications.

Dated: February 16, 2001.
Robert D. Brenner,
Acting Assistant Administrator for Air and Radiation.

[FR Doc. 01-4864 Filed 2-27-01; 8:45 am]

BILLING CODE 6560-50-P